DEPARTMENT OF ENERGY

Federal Energy Regulatory Commission

[Docket No. RP02-26-000]

U-T Offshore System, L.L.C; Notice of Proposed Changes in FERC Gas Tariff

November 6, 2001.

Take notice that on October 31, 2001, U-T Offshore System, L.L.C (U-TOS) tendered for filing as part of its FERC Gas Tariff, Fourth Revised Volume No. 1, the tariff sheets listed in Appendix A to the filing, to be made effective November 1, 2001.

U-TOS states that the purpose of the filing is to revise U-TOS' existing tariff to reflect changes made necessary by the purchase of all of the outstanding shares of U-TOS by Mid Louisiana Gas Transmission Company, a wholly owned subsidiary of Enbridge Midcoast Energy, Inc. on April 20, 2001. Specifically, the revisions to U-TOS' Fourth Revised Volume No. 1, (1) corrects the title page to reflect current information regarding the person to whom communication concerning the tariff should be addressed, (2) corrects the address, phone numbers and facsimile numbers of the various contacts within U-TOS, and (3) modify the section related to marketing affiliates to reflect the change of ownership.

U-TOS states that copies of its transmittal letter and appendices have been mailed to all affected customers and interested state commissions

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-28284 Filed 11-9-01; 8:45 am]

BILLING CODE 6717-01-P